DEPARTMENT OF LABOR

Occupational Safety and Health Administration

[Docket No. OSHA-2007-0082]

Meeting Notice, Work Group Meetings and Appointment of Committee Members for the Advisory Committee on Construction Safety and Health (ACCSH)

AGENCY: Occupational Safety and Health Administration (OSHA), Department of Labor.

ACTION: Meeting notice, work group meetings and appointment of committee members for the Advisory Committee on Construction Safety and Health (ACCSH).

SUMMARY: The Occupational Safety and Health Administration announces ACCSH membership, including representation categories and terms; work group meetings January 23, 2008; and a full committee meeting on January 24-25, 2008. ACCSH is meeting to address construction safety and health issues.

DATES: ACCSH work groups will meet Wednesday, January 23, 2008.

ACCSH will meet Thursday and Friday, January 24-25, 2008.

Submit written materials for ACCSH or make requests to speak to ACCSH on or before January 14, 2008.

ADDRESSES: ACCSH Meeting Locations: ACCSH and ACCSH Work Groups will meet in Room N3437-B/C/D of the U.S. Department of Labor, Frances Perkins Building, 200 Constitution Avenue, NW., Washington, DC 20210.

Submission of comments and requests to speak: Comments and requests to speak, must be submitted to Ms. Veneta Chatmon, OSHA, Office of Communications, Room N-3647, U.S. Department of Labor, 200 Constitution Avenue, NW., Washington, DC 20210; telephone (202) 693-1999; e-mail Chatmon.veneta@dol.gov. OSHA requests that interested parties submit 20 copies of their comments, which OSHA will provide to ACCSH members and put into the official record of the meeting.

Instructions: All submissions must include the Agency name, OSHA and the docket number for this Federal Register notice (Docket No. OSHA-2007-0082). Submissions in response to this Federal Register notice, including personal information, will be posted without change at: http://www.regulations.gov. Therefore, OSHA cautions interested parties about submitting personal information such as social security numbers and birth dates. For additional information on submitting comments and requests to speak, see the SUPPLEMENTARY INFORMATION section.

Docket: To read or download submissions or the official record of this ACCSH meeting, go to http://www.regulations.gov. All documents in the docket are listed in the http://www.regulations.gov index. Although listed in the index, some documents (e.g., copyrighted materials) are not publicly available to read or download through http://www.regulations.gov. The official record and all submissions, including copyrighted material, are available for inspection and copying at the OSHA Docket Office, Room N-2625, U.S. Department of Labor, 200 Constitution Avenue, NW., Washington, DC 20210; telephone (202) 693-2350 (TTY number (877) 889-5627). The Department of Labor's and the OSHA Docket Office's normal business hours are 8:15 a.m.-4:45 p.m., e.t.

FOR FURTHER INFORMATION CONTACT: For general information about ACCSH and ACCSH meetings: Mr. Michael Buchet, OSHA, Directorate of Construction, Room N-3468, U.S. Department of Labor, 200 Constitution Avenue, NW., Washington, DC 20210; telephone (202)-693-2020; e-mail Buchet.michael@dol.gov.

For information about submitting comments or requests to speak, and for special accommodations for the meeting: Ms. Veneta Chatmon, OSHA, Office of Communications, Room N-3647, U.S. Department of Labor, 200 Constitution Avenue, NW., Washington, DC 20210; telephone (202) 693-1999; e-mail Chatmon.veneta@dol.gov.

SUPPLEMENTARY INFORMATION:

ACCSH Meeting: ACCSH will meet January 24-25, 2008. The proposed agenda for this meeting includes:

• Welcoming and Remarks—OSHA, Office of the Assistant Secretary

• Remarks—OSHA, Directorate of Construction.

• Standards Update—OSHA, Directorates of Construction.

• Standards Update—OSHA, Directorate of Standards and Guidance.

• Committee governance, work group assignments and reports.

• OSHA's role in the National Response Plan—Overview.

• OSHA's Structural Collapse Response.

• Minnesota's I-35W Highway Bridge Collapse and OSHA's Role.

• Construction Cooperative Programs Update.

• Post-Frame Construction presentation—National Frame Builders Association.

• Concrete Masonry Unit Construction Safety presentation—Stonesmith Patented Systems, Inc.

• Public Comment.

Requests to Present or Speak to ACCSH: Interested parties may request to make oral presentations to ACCSH by notifying Ms. Veneta Chatmon at the address above on or before January 14, 2008. Requests must state the amount of time desired, the interests represented by the presenters (e.g., businesses, organizations, themselves, affiliations, etc., if any), and briefly outline the presentation. Alternately, at the Committee meeting, attendees may request to address ACCSH by signing the public comment request sheet and listing the interests they represent (e.g., businesses, organizations, themselves, affiliations, etc., if any) and the topics to be addressed. All requests to present to or address the committee may be granted at the ACCSH Chair's discretion and as time permits. Time permitting OSHA will provide speaker submissions to ACCSH members. OSHA will include all submissions in the record of the meeting.

Access to meeting record: For access to the official record of ACCSH committee meetings and copies of this Federal Register notice, go to http://www.regulations.gov and find Docket No. OSHA-2007-0082. Although all documents in the record will be listed in Docket No. OSHA-2007-0082 at http://www.regulations.gov index, some documents (e.g., copyrighted materials) are not publicly available to read or download. The official record, including these materials, is available for inspection and copying at the OSHA Docket Office, Room N-2625, U.S. Department of Labor, 200 Constitution Avenue, NW., Washington, DC 20210; telephone (202) 693-2350 (TTY number (877) 899-5627). Electronic copies of this Federal Register notice, as well as information about ACCSH work groups and other relevant documents, are available on OSHA's Web page at http://www.osha.gov.

ACCSH Work Group Meetings: The following ACCSH Work Groups will meet on Wednesday, January 23, 2008 in Room N 3437 B/C/D of the Frances Perkins Building, 200 Constitution Avenue, NW., Washington, DC 20210:

• The Residential Fall Protection Work Group will meet from 9 to 11:30 a.m.;

• The Diversity and Multilingual Work Group will meet from 12:30 to 3 p.m.

Building Access, Department of Labor Security: Members of the public attending the ACCSH or ACCSH Work Group meetings in the Department of Labor's Frances Perkins Building will be required to enter and exit through Building Security at the 3rd and C Streets, NW., “Visitors' Entrance.” Attendees must present valid government-issued photo identification and sign the log to enter the building. They should proceed to the North elevator banks and go to the third floor. Rooms N3437-B/C/D are behind the elevator bank. Attendees should allow extra time for the security procedures and reaching the meeting rooms.

Special Accommodations: Individuals needing special accommodations for ACCSH or ACCSH Work Group meetings should contact Ms. Chatmon by January 14, 2008.

ACCSH Member Appointments and Continuing Membership:

New Appointments:

Representatives of Employer Viewpoints:

Thomas R. Shanahan, Assistant Executive Director, National Association of Roofing Contractors, Term Expires November 30, 2009.

Daniel D. Zarletti, Vice President/Chief Risk Officer, Kenny Construction Company, Term Expires November 30, 2009.

Representative of the Public Interests:

Ms. Elizabeth Arioto, Elizabeth Arioto Safety and Health Consulting Services, Term Expires November 30, 2009.

Reappointment:

Representatives of Employee Viewpoints:

Thomas L. Kavicky, Safety Director/Assistant to the President, Chicago Regional Council of Carpenters, Term Expires November 30, 2009.

Frank L. Migliaccio, Jr., Executive Director, Safety and Health, International Association of Bridge, Structural, Ornamental and Reinforcing Iron Workers, Term Expires November 30, 2009.

Representatives of State Safety and Health Agencies:

Kevin D. Beauregard, Assistant Deputy Commissioner, Assistant Director, Division of Occupational Safety and Health, North Carolina Department of Labor, Term Expires November 30, 2009.

Steven D. Hawkins, Assistant Administrator, Tennessee Occupational Safety and Health Administration, Term Expires November 30, 2009.

Continuing ACCSH Members:

Representatives of Employee Viewpoints:

Emmett M. Russell, Director—Department of Safety and Health, International Union of Operating Engineers, Term Expires July 3, 2008.

Robert Krul, Director of Safety & Health, United Union of Roofers, Waterproofers and Allied Workers, Term Expires July 3, 2008.

David Dale Haggerty, MOST Representative—Safety, International Brotherhood of Boilermakers, Iron Ship Builders, Blacksmiths, Forgers and Helpers, Term Expires July 3, 2008.

Representatives of Employer Viewpoints:

Daniel J. Murphy, Vice President of Construction Services, Zurich North America, Term Expires July 3, 2008.

Linwood O. Smith, Vice President of Risk Management and Safety, T.A. Loving Company, Term Expires July 3, 2008.

Michael J. Thibodeaux, Consultant, National Association of Home Builders, Term Expires July 3, 2008.

Representative of the Public Interests:

Thomas A. Broderick, Executive Director, Construction Safety Council and Chicagoland Construction Safety Council, Term Expires July 3, 2008.

Designee of the Secretary of Health and Human Services:

Matt Gillen, Senior Scientist and Construction Program Coordinator, National Institute of Occupational Safety and Health, Term Expiration, Indefinite.

Authority and Signature

Edwin G. Foulke, Jr., Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), the Federal Advisory Committee Act (5 U.S.C. App. 2), and Secretary of Labor's Order No. 5-2007 (72 FR 31159).

Signed at Washington, DC, this 10th day of December, 2007.
Edwin G. Foulke, Jr.,
Assistant Secretary of Labor for Occupational Safety and Health.

[FR Doc. E7-24256 Filed 12-14-07; 8:45 am]

BILLING CODE 4510-26-P